FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202)-523-5793 or tradeanalysis@fmc.gov.

Agreement No.: 201376.

Agreement Name: Tropical/Seaboard Antigua Space Charter Agreement.

Parties: Tropical Shipping & Construction Co. Ltd.; and Seaboard Marine Ltd.

Filing Party: Wayne Rohde; Cozen O'Connor.

Synopsis: The Agreement would authorize Tropical to charter space to Seaboard in the trade between Palm Beach, FL and ports in Antigua.

Proposed Effective Date: 2/25/2022.

Location: https://www2.fmc.gov/FMC.Agreements.Web/Public/AgreementHistory/55502.

Dated: January 18, 2022.
William Cody,
Secretary.

[FR Doc. 2022-01167 Filed 1-20-22; 8:45 am]

BILLING CODE 6730-02-P